DEPARTMENT OF THE INTERIOR

Bureau of Indian Affairs

[245A2100DD/AAKC001030/A0A501010.999900]

Land Acquisitions; Navajo Nation, Arizona, New Mexico, & Utah, Lower Highway 89 Project, Coconino County, Arizona

AGENCY: Bureau of Indian Affairs, Interior.

ACTION: Notice.

SUMMARY: The Assistant Secretary—Indian Affairs made a final agency determination to acquire in trust 13.79 acres, more or less, of land consisting of three parcels, known as the Lower Highway 89 Project, in Coconino County, Arizona, for the Navajo Nation, Arizona, New Mexico, & Utah for gaming and other purposes.

DATES: This final determination was made on November 8, 2024.

FOR FURTHER INFORMATION CONTACT: Ms. Paula L. Hart, Director, Office of Indian Gaming, Office of the Assistant Secretary—Indian Affairs, Washington, DC 20240, IndianGaming@bia.gov; (202) 219-4066.

SUPPLEMENTARY INFORMATION: On the date in the DATES section of this notice, the Assistant Secretary—Indian Affairs made a final agency determination to acquire the Lower Highway 89 Project (Site), consisting of 13.79 acres, more or less, in trust for the Navajo Nation, Arizona, New Mexico, & Utah under the authority of the Navajo-Hopi Settlement Act of 1975, Public Law 93-531, 88 Stat. 1712, 25 U.S.C. 640d, et seq. (1980), as amended.

The Assistant Secretary—Indian Affairs, on behalf of the Secretary of the Interior, will immediately acquire the title to the Site in the name of the United States of America in trust for the Navajo Nation, Arizona, New Mexico, & Utah upon fulfillment of all Departmental requirements. The legal descriptions for the Lower Highway 89 Project are as follows:

Legal Description of Property

Parcel 1, Horsemen's Lodge, Is Located at 8500 North US Highway 89, Flagstaff, AZ 86004

That part of the Southeast quarter of Section 28, Township 22 North, Range 8 East of the Gila and Salt River Base and Meridian, Coconino County, Arizona, more particularly described as follows:

Beginning at Comer No. 17, Homestead Entry Survey No. 373, said comer also being the Center of said Section 28, a marked stone;

Thence North 89 degrees, 53 minutes, 00 seconds East along the East-West midsection line of Section 28, a distance of 120.00 feet to a point, said point being a ⅝ inch iron pin with an aluminum cap and the true point of beginning;

Thence South 0 degrees, 05 minutes, 00 seconds West, a distance of 245.38 feet to a point, said point being a ⅝ inch iron pin with an aluminum cap;

Thence South 82 degrees, 55 minutes, 00 seconds East, a distance of 342.98 feet to a point on a curve of the Northwesterly right of way line of U.S. Highway 89, said point being a ⅝ inch iron pin with an aluminum cap;

Thence Northeasterly along the Northwesterly right of way line of U.S. Highway 89, along a curve to the left, having a central angle of 6 degrees, 44 minutes, 32 seconds, a radius of 2814.79 feet and a length of 331.2 feet, more or less, to a point, said point being the intersection of the said Northwesterly right of way line of U.S. Highway 89 with the East-West midsection line of said Section 28, and said point being a ⅝ inch iron pin with an aluminum cap;

Thence South 99 degrees, 53 minutes, 00 seconds West along the East-West midsection in of Section 28, a distance of 502.00 feet, more or less to the true point of beginning.

Excepting therefrom that portion conveyed to the State of Arizona, by and through its Department of Transportation in Deed recorded January 28, 1986 in Docket 1071, Pages 236-237.

Parcel 2, Comprised of Parcels 2:a and 2:b, Is Located at 8560 North US Highway 89, Flagstaff, AZ 86004

2:a Bellar

A parcel of land in the Northeast quarter of Section 28, Township 22 North, Range 8 East, of the Gila and Salt River Base and Meridian, Coconino County, Arizona, more particularly described as follows:

Beginning at Corner No. 17, H.E.S. 373, said corner also being the Center of said Section 28, a marked stone;

Thence North 89°53′00″ East, along the East-West midsection line of Section 28, a distance of 120.00 feet to a point, said point being a ⅝ inch iron pin with an aluminum cap and the true point of beginning;

Thence North 00°05′00″ East, a distance of 336.61 feet to a point marked by a ⅝ inch iron pin with an aluminum cap;

Thence North 89°53′00″ East, a distance of 451.81 feet to a point marked by a ⅝ inch iron pin with an aluminum cap;

Thence South 20°48′30″ West, a distance of 360.38 feet more or less, to a point on the East-West midsection line of Section 28, marked by a ⅝ inch iron pin with an aluminum cap;

Thence South 89°53′00″ West, along the East-West midsection line of Section 28, a distance of 324.28 feet, more of less to the Point of Beginning.

2:b Bellar

A parcel of land in the Northeast quarter of Section 28, Township 22 North, Range 8 East, of the Gila and Salt River Base and Meridian, Coconino County, Arizona, more particularly described as follows:

Beginning at Comer No. 17, H.E.S. 373, said comer also being the Center of said Section 28, a marked stone;

Thence North 00°05′00″ East, along the North-South midsection line of said Section 28, a distance of 516.00 feet;

Thence North 89°51′19″ East, a distance of 774.00 feet to a point on the Westerly right-of-way line of U.S. Highway 89, as shown in A.D.O.T. Project No. P-037=1-008, Drawing No. D-3-T0600, sheets 9 and 10;

Thence South 20°42′53″ West, along said Westerly right-of-way line, a distance of 278.53 feet to a found A.D.O.T. brass tablet marked “STA. 10095+27.92 R/W LT”;

Thence continue South 20°42′53″ West, along said Westerly right-of-way line, a distance of 6.07 feet to a point of curvature;

Thence Southwesterly along said Westerly right-of-way line, along a curve to the right, having a central angle of 5°29′39″ and a radius of 2764.79, for a distance of 273.16 feet to a nontangent point, said point being the intersection of said Southerly right-of way line and the East-West midsection line of said Section 28;

Thence South 89°51′19″ West (Record South 89°53′00″ West, as recorded in Docket 1042, page 701, records of Coconino County, Arizona.) a distance of 121.55 feet to the Southeast comer of a parcel of land described in Docket 1042, page 700;

Thence North 20°46′49″ East, along the East parcel line of said parcel, a distance of 360.38 feet (Record North 20°48.30” East, 36'0.38 feet per Docket 1042, page 700) to the Northeast comer of said Parcel;

Thence South 89°52′00″ West, along the North parcel line of the said parcel, a distance of 451.61 feet (Record South 89°05′25″ West, 451.81 feet per Docket 1042, page 700) to the Northwest comer of said Parcel;

Thence South 0°05′25″ West, along the West parcel line of said Parcel, a distance of 336.70 feet (Record South 0°-5′00′ West, 336.61 feet per Docket 1042, page 700) to a point on the aforementioned East-West midsection line of Section 28;

Thence South 89°51′19″ West, along the said East-West midsection line, a distance of 120.00 feet (Record South 89°53′00″ West, 120.00 feet per Docket 1042, page 700) to the Point of Beginning.

Parcel 3, Flying Heart Stables, Is Located at 8400 North US Highway 89, Flagstaff, AZ 86004

A portion of a parcel of land lying within the Southeast quarter of Section 28, Township 22 North, Range 8 East of the Gila and Salt River Meridian, Coconino County, Arizona, described as follows:

Beginning at a 2.5 inch aluminum cap stamped “Woodson Eng. LS 16630” marking the center ¼ of said Section 28;

Thence North 89 degrees, 50 minutes, 52 seconds East, 119.60 (North 89 degrees, 53 minutes, 00 seconds East, 120.00 feet record) along the Northerly line of said Southeast quarter;

Thence South 00 degrees, 06 minutes, 14 seconds East, 245.68 feet (South 00 degrees, 05 minutes, 00 seconds West 245.38 feet record);

Thence South 83 degrees, 06 minutes, 14 seconds East, 285.88 feet (South 82 degrees, 55 minutes, 00 seconds East, 349.98 feet record) to a point on the Westerly right of way of US Highway 89. Said point being on a curve concave to the Northwest, having a radius of 2764.79 feet to which the radius point bears South 56 degrees, 45 minutes, 50 seconds East;

Thence Southwesterly 170.02 feet along the arc of said right of way, through a central angle of 03 degrees, 31 minutes, 25 seconds;

Thence South 36 degrees, 40 minutes, 59 seconds West, 512.63 feet (South 38 degrees West, 811.14 feet record) along said right of way to the point of intersection with the Westerly line of said Southeast quarter;

Thence North 00 degrees, 00 minutes, 29 seconds West (Basis of bearings), 830.05 feet (North 00 degrees, 05 minutes, 00 seconds East, 998.58 feet record) along said line to the true point of beginning.

Excepting therefrom that portion of the Southeast quarter of Section 28, Township 22 North, Range 8 East of the Gila and Salt River Base and Meridian, Coconino County, Arizona, deeded to the State of Arizona, by and through its Department of Transportation in instrument recorded in Docket 1070, Pages 967-968, records of Coconino County, Arizona, described as follows:

That portion of the above described property which lies between the existing Westerly right of way line of U.S. Highway 89 (Flagstaff-Cameron Highway) and the following described line;

Beginning at a point on the South line of said Section 28, which point bears North 89 degrees, 31 minutes, 39 seconds East, a distance of 1291.75 feet from the Southwest comer thereof;

Thence North 36 degrees, 58 minutes, 18 seconds East, a distance of 2816.52 feet;

Thence along the arc of a curve to the left, having a radius of 2764.79 feet, a distance of 500.00 feet, more or less to the point of ending on the North line of said Section 28.

Authority: This notice is published in the exercise of authority delegated by the Secretary of the Interior to the Assistant Secretary—Indian Affairs by 209 Departmental Manual 8.1 and is published to comply with the requirements of 25 CFR 151.13(c)(2)(ii) that notice of the decision to acquire land in trust be promptly provided in the Federal Register.

Bryan Newland,
Assistant Secretary—Indian Affairs.

[FR Doc. 2024-26534 Filed 11-13-24; 8:45 am]

BILLING CODE 4337-15-P